Proclamation 9314 of August 31, 2015

National Prostate Cancer Awareness Month, 2015

By the President of the United States of America

A Proclamation

Every year, America pauses to raise awareness of prostate cancer and reaffirm our resolve to defeat it. One of the most common cancers among American men, prostate cancer will kill more than 27,500 of our Nation's fathers, husbands, sons, and brothers this year, and more than 220,000 Americans will be diagnosed with it in 2015 alone. With each diagnosis comes pain and heartache, and for too many it leads to extreme hardship and unimaginable loss. As a country, we stand with all those who are fighting prostate cancer, their families, and every person who knows the challenges it brings, and we renew our commitment to combating this devastating disease.

Decades of innovative research have helped to reduce prostate cancer's mortality through more effective prevention, detection, and treatment. And while the exact causes of prostate cancer remain unknown, medical research has identified well-established risk factors with which men should be familiar, such as age, family history, and race. By working to raise awareness of prostate cancer, we can help men make more informed decisions about their health—including choices which may help prevent cancer, such as avoiding smoking, maintaining a healthy diet and weight, and exercising regularly. I encourage all men, especially those at higher risk, to speak with a health care professional to learn how prostate cancer could affect them. Everyone can learn more by visiting www.Cancer.gov/Prostate.

My Administration is committed to ensuring that Americans have every opportunity to live long and healthy lives. Cancer should not be a death sentence, nor should it condemn individuals to a life of poverty just because they do not have access to the quality, affordable care they need. That is why we fought so hard for the Affordable Care Act—a law which has helped more than 16 million uninsured Americans gain the security they deserve. The law also prevents insurance companies from denying coverage due to a pre-existing condition, such as cancer, and it eliminates annual and lifetime dollar limits on coverage that could disrupt prostate cancer treatments.

We will also continue to support the types of groundbreaking research that have made a difference for so many cancer patients. Earlier this year, I announced my plan to invest in research to better understand cancer and other diseases, thereby determining how best to treat each patient. This Precision Medicine Initiative aims to accelerate biomedical discoveries and revolutionize how our Nation combats disease.

During National Prostate Cancer Awareness Month, we honor all those we have lost, and we redouble our efforts to beat prostate cancer once and for all. Together, with our Nation's advocates, medical researchers, health care providers, and all those who have been touched by cancer, let us resolve to continue our work toward a future free from cancer in all its forms.

NOW, THEREFORE, I, BARACK OBAMA, President of the United States of America, by virtue of the authority vested in me by the Constitution and the laws of the United States, do hereby proclaim September 2015 as National Prostate Cancer Awareness Month. I encourage all citizens, government agencies, private businesses, non-profit organizations, and other groups to join in activities that will increase awareness and prevention of prostate cancer.

IN WITNESS WHEREOF, I have hereunto set my hand this thirty-first day of August, in the year of our Lord two thousand fifteen, and of the Independence of the United States of America the two hundred and fortieth.

[FR Doc. 2015-22332

Filed 9-2-15; 11:15 am]

Billing code 3295-F5